CORPORATION FOR NATIONAL AND COMMUNITY SERVICE

New Information Collection; Submission for OMB Review; Comment Request

AGENCY: Corporation for National and Community Service.

ACTION: Notice.

SUMMARY: The Corporation for National and Community Service (hereinafter the “Corporation”), has submitted a proposed new public information collection requests (ICR) entitled Field Network Pilot Study Field Guidance to the Office of Management and Budget (OMB) for review and approval in accordance with the Paperwork Reduction Act of 1995 (Pub. L. 104-13), (44 U.S.C. Chapter 35). Copies of this ICR, with applicable supporting documentation, may be obtained by calling the Corporation for National and Community Service, Kelly Arey, (202) 606-5000, ext. 197. Individuals who use a telecommunications device for the deaf (TTY-TDD) may call (202) 565-2799 between 8:30 a.m. and 5 p.m. Eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in the Federal Register:

(1) By fax to: (202) 395-6974, Attention: Ms. Katherine Astrich, OMB Desk Officer for the Corporation for National and Community Service; and

(2) Electronically by e-mail to: Katherine_Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on December 10, 2004. This comment period ended on February 8, 2005. No public comments were received.

Description: The Corporation has contracted with the Nelson A. Rockefeller Institute of Government to carry out a Field Network Pilot Study to learn how the Corporation's goals and requirements regarding sustainability, capacity building, and performance measurement are affecting the AmeriCorps program and the nonprofit organizations where AmeriCorps members serve. The Pilot Study will consider how grantee and subgrantee organizations are selected; how the Corporation communicates with grantees and subgrantees; how local contexts and available funding opportunities vary from state to state; and how the Corporation's goals and requirements fit into the context of the grantees' and subgrantees' own policies and the many diverse responsibilities they face. The Field Network Pilot Study Field Guidance will be used to assess the impact of the Corporation's policies around sustainability, capacity building, and the performance measurement initiative. Independent, local field researchers will be employed in collecting the information. During the data-gathering phase of the Pilot Study, the researchers will refer to background information about the Corporation, its programs, and the Field Network method.

Type of Review: New.

Agency: Corporation for National and Community Service.

Title: Field Network Pilot Study Field Guidance.

OMB Number: None.

Agency Number: None.

Affected Public: Non-profit institutions, Government.

Total Respondents: 105.

Frequency: Once.

Average Time Per Response: 3 hours.

Estimated Total Burden Hours: 315 hours.

Total Burden Cost (capital/startup): None.

Total Burden Cost (operating/maintenance): None.

Dated: April 4, 2005.
Robert Grimm,
Director, Research and Policy Development.

[FR Doc. 05-7707 Filed 4-15-05; 8:45 am]

BILLING CODE 6050-$$-P